DEPARTMENT OF HOMELAND SECURITY

Coast Guard

[USCG-2012-0797]

National Maritime Security Advisory Committee; Meeting

AGENCY: Coast Guard, DHS.

ACTION: Notice of Federal Advisory Committee Meeting.

SUMMARY: The National Maritime Security Advisory Committee (NMSAC) will meet on April 2-3, 2013 in Washington, DC to discuss various issues relating to national maritime security. This meeting will be open to the public.

DATES: The Committee will meet on Tuesday, April 2, 2013 from 9:00 a.m. to 4:00 p.m. and Wednesday, April 3, 2013 from 8:00 a.m. to 11:00 a.m. This meeting may close early if all business is finished. All written material and requests to make oral presentations should reach the Coast Guard on or before March 29, 2012.

ADDRESSES: The Committee will meet in the Oklahoma Room at the Department of Transportation, 1200 New Jersey Ave SE., Washington, DC 20590. Seating is very limited. Members of the public wishing to attend should register with Mr. Ryan Owens, Alternate Designated Federal Official (ADFO) of NMSAC, telephone 202-372-1108 or ryan.f.owens@uscg.mil no later than March 25, 2013. Additionally, this meeting will be broadcasted via a web enabled interactive online format and teleconference line.

To participate via teleconference, dial 866-810-4853, the pass code to join is 9760138#. Additionally, if you would like to participate in this meeting via the online web format, please log onto https://connect.hsin.gov/r11254182 and follow the online instructions to register for this meeting.

For information on facilities or services for individuals with disabilities or to request special assistance at the meeting, contact the person listed in the FOR FURTHER INFORMATION CONTACT section as soon as possible.

To facilitate public participation, we are inviting public comment on the issues to be considered by the Committee as listed in the “Agenda” section below. You may submit written comments no later than March 29, 2013. Identify your comments by docket number [USCG-2012-0797] using one of the following methods:

• Federal eRulemaking Portal: http://www.regulations.gov. Follow the instructions for submitting comments.

• Mail: Docket Management Facility (M-30), U.S. Department of Transportation, West Building Ground Floor, Room W12-140, 1200 New Jersey Avenue SE., Washington, DC 20590-0001. We encourage use of electronic submissions because security screening may delay delivery of mail.

• Fax: (202) 493-2251.

• Hand Delivery: Same as mail address above, between 9:00 a.m. and 5:00 p.m., Monday through Friday, except Federal Holidays. The telephone number is 202-366-9329.

Instructions: All submissions received must include the words “Department of Homeland Security” and docket number [USCG-2012-0797]. All submissions received will be posted without alteration at www.regulations.gov, including any personal information provided. You may review a Privacy Act notice regarding our public dockets in the January 17, 2008 issue of the Federal Register (73 FR 3316)

Docket: Any background information or presentations available prior to the meeting will be published in the docket. For access to the docket to read background documents or submissions received by NMSAC, go to http://www.regulations.gov, insert “USCG-2012-0797” in the “Search” box, and then click “Search.”

Public oral comment period will be held during the meetings on April 2, 2013, from 3:30 p.m. to 4:00 p.m., and April 3, 2013 from 10:30 a.m. to 11:00 a.m. Speakers are requested to limit their comments to 5 minutes. Please note that the public comment period will end following the last call for comments. Contact the person listed in the FOR FURTHER INFORMATION CONTACT section below to register as a speaker.

FOR FURTHER INFORMATION CONTACT: Mr. Ryan Owens, ADFO of NMSAC, 2100 2nd Street SW., Stop 7581, Washington, DC 20593-7581; telephone 202-372-1108 or email ryan.f.owens@uscg.mil. If you have any questions on viewing or submitting material to the docket, call Barbara Hairston, Program Manager, Docket Operations, telephone 202-366-9826.

SUPPLEMENTARY INFORMATION: Notice of this meeting is given under the Federal Advisory Committee Act, 5 U.S.C. App. (Pub. L. 92-463). NMSAC operates under the authority of 46 U.S.C. 70112. NMSAC provides advice, consults with, and makes recommendations to the Secretary of Homeland Security, via the Commandant of the Coast Guard, on matters relating to national maritime security.

Agenda of Meeting

Day 1

The agenda for the Committee meeting is as follows:

(1) Cyber Security Executive Order. On February 12, 2013, President Barack Obama signed an Executive Order ¹ to strengthen the cybersecurity of critical infrastructure by increasing information sharing and by jointly developing and implementing a framework of cybersecurity practices with our industry partners. NMSAC will be engaged to discuss and hear public comment on the Executive Order and begin initial work in developing a framework for the maritime community.

¹ The Executive Order (not numbered) is available for viewing online at the White House's Web site: http://www.whitehouse.gov/the-press-office/2013/02/12/executive-order-improving-critical-infrastructure-cybersecurity.

(2) Presidential Policy Directive-21.² On February 12, 2013, the White House Office of the Press Secretary published a Presidential Policy Directive (PPD) on critical infrastructure security and resilience. PPD-21 updates the national approach from Homeland Security Presidential Directive-7 (issued in 2003) to adjust to the new risk environment, understand key lessons learned, and drive toward enhanced capabilities. NMSAC will be engaged to discuss and hear public comment on PPD-21 and its impacts on the maritime community.

² Presidential Policy Directive-21 is available for viewing online at the White House's Web site: http://www.whitehouse.gov/the-press-office/2013/02/12/presidential-policy-directive-critical-infrastructure-security-and-resil.

(3) Maritime Domain Awareness and Information Sharing. NMSAC will receive a brief on, and will engage in a discussion on, the efforts of the Coast Guard and DHS to implement Maritime Domain Awareness and Information Sharing.

(4) National Suspicious Activity Reporting Initiative (NSI). NMSAC will receive a brief, hear public comments and provide recommendations, on the NSI program.

(5) Public Comment Period.

Day 2

(1) Radiation Portal Monitoring. NMSAC will continue its discussion of the Radiation Portal Monitoring Program.

(2) Port Security Grant Program. NMSAC will discuss the Port Security Grant Program, hear public comments and provide recommendations to the Coast Guard on the future implementation of the program.

(3) Public comment period.

Dated: March 11, 2013.
R.F. Owens,
U.S. Coast Guard, Office of Port and Facility Compliance, Deputy Designated Federal Official.

[FR Doc. 2013-06125 Filed 3-15-13; 8:45 am]

BILLING CODE 9110-04-P